DEPARTMENT OF THE INTERIOR

Fish and Wildlife Service

50 CFR Part 17

RIN 1018-AI27

Endangered and Threatened Wildlife and Plants; Designation of Critical Habitat for Five Carbonate Plants From the San Bernardino Mountains in Southern California

AGENCY: Fish and Wildlife Service, Interior.

ACTION: Proposed rule; reopening of comment period and notice of availability of draft economic analysis.

SUMMARY: We, the U.S. Fish and Wildlife Service (Service), announce the reopening of the comment period on the proposed designation of critical habitat for five carbonate plants from the San Bernardino Mountains in Southern California: Astragalus albens (Cushenbury milk-vetch), Erigeron parishii (Parish's daisy), Eriogonum ovalifolium var. vineum (Cushenbury buckwheat), Lesquerella kingii ssp. bernardina (San Bernardino Mountains bladderpod), and Oxytheca parishii var. goodmaniana (Cushenbury oxytheca) (hereafter: “carbonate plants”); and the availability of the draft economic analysis of the proposed designation of critical habitat. We are reopening the comment period on the critical habitat for these species to allow all interested parties to comment simultaneously on the proposed rule and the associated draft economic analysis. Comments previously submitted need not be resubmitted as they have been incorporated into the public record as part of this extended comment period and will be fully considered in the final rule.

DATES: We will accept public comments until 5 p.m. on October 21, 2002.

ADDRESSES: Written comments and information should be submitted to Field Supervisor, Carlsbad Fish and Wildlife Office, U.S. Fish and Wildlife Service, 2730 Loker Avenue West, Carlsbad, CA 92008. For the electronic mail address, and further instructions on commenting, refer to Public Comments Solicited section of this notice.

FOR FURTHER INFORMATION CONTACT: Daniel R. Brown, Carlsbad Fish and Wildlife Office, U.S. Fish and Wildlife Service, at the above address (telephone 760/431-9440; facsimile 760/431-9618).

SUPPLEMENTARY INFORMATION:

Background

The carbonate plants addressed in this notice are restricted primarily to carbonate derived soils in the San Bernardino Mountains of San Bernardino County, California (59 FR 43652). The carbonate plants are found along a 56 kilometer (km) (35 mile (mi)) portion of the San Bernardino Mountains between 1,171 and 2,682 meters (m) (3,842 and 8,800 feet (ft)) in elevation. All of the carbonate plants are endemic to California.

On June 15, 2000, the California Native Plant Society filed a lawsuit in Federal District Court for the Southern District of California for our failure to designate critical habitat for the five carbonate plants (California Native Plant Society v. Berg, et al., 00CV1207-L (LSP)). On April 27, 2001, the Court vacated our August 24, 1994, “not prudent” determination for critical habitat and ordered us to reevaluate its prudency, and if prudent, to publish a final critical habitat designation on or before September 30, 2002. On February 12, 2002, we published a proposed rule in the Federal Register (67 FR 6578) proposing to designate approximately 5,335 hectares (13,180 acres) of land in San Bernardino County, California, as critical habitat for the carbonate plants pursuant to the Act. Section 4(b)(2) of the Act requires that we designate or revise critical habitat based upon the best scientific and commercial data available, after taking into consideration the economic or any other relevant impact of specifying any particular area as critical habitat. Based upon the previously published proposed rule to designate critical habitat for the carbonate plants, we have prepared a draft economic analysis of the proposed critical habitat designation. The draft economic analysis is available on the Internet and from the mailing address and phone number given above.

Public Comments Solicited

We will accept written comments and information during this reopened comment period. If you wish to comment, you may submit your comments and materials concerning this proposal by any of several methods:

(1) You may submit written comments and information to the Field Supervisor, Carlsbad Fish and Wildlife Office, U.S. Fish and Wildlife Service, at the address given above.

(2) You may send comments by electronic mail (e-mail) to: carbplants@r1.fws.gov. If you submit comments by e-mail, please submit them as an ASCII file and avoid the use of special characters and any form of encryption. Please also include “Attn: RIN 1018-AI27” and your name and return address in your e-mail message. If you do not receive a confirmation from the system that we have received your e-mail message, contact us directly by calling our Carlsbad Fish and Wildlife Office at telephone number 760/431-9440.

(3) You may hand-deliver comments to our Carlsbad Fish and Wildlife Office at the address given above.

We solicit comments or suggestions from the public, other concerned governmental agencies, tribes, the scientific community, industry, or any other interested parties concerning the proposal or the draft economic analysis. We particularly seek comments concerning:

(1) Assumptions reflected in the Carbonate Habitat Management Strategy and the draft economic analysis regarding land use practices and current, planned, or reasonably foreseeable activities in the subject areas, including comments or information relating to the potential effects that the designation could have on private landowners as a result of actual or foreseeable State and local government responses due to the California Environmental Quality Act;

(2) Land use practices and current, planned, or foreseeable activities in the subject areas and their possible impacts on proposed critical habitats;

(3) Any foreseeable economic or other impacts resulting from the proposed designation of these critical habitats, including impacts that may not have been addressed in the draft economic analysis and, in particular, any impacts on small entities or families;

(4) Economic and other values associated with designating critical habitat for Astragalus albens, Erigeron parishii, Eriogonum ovalifolium var. vineum, Lesquerella kingii ssp. bernardina, and Oxytheca parishii var. goodmaniana, such as those derived from non-consumptive uses (e.g., hiking, camping, plant-watching/botanizing, enhanced watershed protection, improved air quality, increased soil retention, “existence values,” and reductions in administrative costs); and

(5) Whether our approach to critical habitat designation could be improved or modified in any way to provide for greater public participation and understanding, or to assist us in accommodating public concern and comments.

Our practice is to make comments, including names and home addresses of respondents, available for public review during regular business hours. Individual respondents may request that we withhold their home address, which we will honor to the extent allowable by law. In some circumstances, we would withhold from the rulemaking record a respondent's identity, as allowable by law. If you wish us to withhold your name or address, you must state this request prominently at the beginning of your comment. However, we will not consider anonymous comments. To the extent consistent with applicable law, we will make all submissions from organizations or businesses, and from individuals identifying themselves as representatives or officials of organizations or businesses, available for public inspection in their entirety. Comments and materials received will be available for public inspection, by appointment, during normal business hours at the above address. Copies of the draft economic analysis are available on the Internet at http://carlsbad.fws.gov or by writing to the Field Supervisor at the address given above.

Author

The primary author of this notice is Daniel R. Brown (see ADDRESSES section).

Authority: The authority for this action is the Endangered Species Act of 1973 (16 U.S.C. 1531 et seq.).

Dated: September 16, 2002.
Craig Manson,
Assistant Secretary for Fish and Wildlife and Parks.

[FR Doc. 02-23942 Filed 9-19-02; 8:45 am]

BILLING CODE 4310-55-P